DEPARTMENT OF DEFENSE

Office of the Secretary

[Docket ID: DOD-2025-OS-0345]

Proposed Collection; Comment Request

AGENCY: Office of the Under Secretary of Defense for Personnel and Readiness (OUSD(P&R)), Department of Defense (DoD).

ACTION: 60-Day information collection notice.

SUMMARY: In compliance with the Paperwork Reduction Act of 1995, the OUSD(P&R) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by September 29, 2025.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Manpower Data Center, 4800 Mark Center Drive, Alexandria, VA 22350, Derrick Thomas, 571-256-7241.

SUPPLEMENTARY INFORMATION:

Title; Associated Form; and OMB Number: Synchronized Pre-deployment and Operational Tracker Enterprise Suite (SPOT-ES); OMB Control Number 0704-0460.

Needs and Uses: The National Defense Authorization Act for Fiscal Year 2008, Public Law 110-181, Section 861, requires a common database between the Department of State (DoS), DoD, and the United States Agency for International Development (USAID) to serve as the repository of information on contracts and contractor personnel performing in Iraq and Afghanistan. A 2010 Memorandum of Understanding between DoS, DoD and USAID designates the Synchronized Pre-deployment and Operational Tracker as that common database. Public Law 110-181, Section 862, requires a process for registering, processing, accounting for, and keeping appropriate records of personnel performing private security functions in an area of combat operations. Any individuals who choose not to have data collected will not be entitled to employment opportunities with businesses that require this data to be collected per DFARS Clause 252.225-7040.

Affected Public: Individuals and households.

Annual Burden Hours: 42,418.

Number of Respondents: 1805.

Responses per Respondent: 47.

Annual Responses: 84,835.

Average Burden per Response: 30 minutes.

Frequency: On occasion.

Dated: July 25, 2025.
Aaron T. Siegel,
Alternate OSD Federal Register Liaison Officer, Department of Defense.

[FR Doc. 2025-14327 Filed 7-28-25; 8:45 am]

BILLING CODE 6001-FR-P